DEPARTMENT OF DEFENSE

Office of the Secretary

[Transmittal No. 24-49]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6523, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-49, Policy Justification, and Sensitivity of Technology.

Dated: September 30, 2025.
Aaron T. Siegel,
Alternate OSD Federal Register Liaison Officer, Department of Defense.

BILLING CODE 6001-FR-P

BILLING CODE 6001-FR-C

Transmittal No. 24-49

Notice of Proposed Issuance of Letter of Offer Pursuant to Section 36(b)(1) of the Arms Export Control Act, as amended

(i) Prospective Purchaser: Government of Norway

(ii) Total Estimated Value:

Major Defense Equipment * | $0.92 billion
Other | $1.02 billion
TOTAL | $1.94 billion

(iii) Major Defense Equipment (MDE):

Three hundred (300) AIM-120C-8 Advanced Medium-Range Air-to-Air Missiles (AMRAAM)

Twenty (20) AIM-120C-8 AMRAAM guidance sections

Non-MDE:

Also included are AMRAAM containers and support equipment; spare parts, consumables, accessories, and repair and return support; weapons software, support equipment, and classified software delivery and support; transportation support; classified publications and technical documentation; training; studies and surveys; United States (U.S.) Government and contractor engineering; technical and logistics support services; and other related elements of logistics and program support.

(iv) Military Department: Air Force (NO-D-YAH)

(v) Prior Related Cases, if any: NO-D-YAE

(vi) Sales Commission, Fee, etc., Paid, Offered, or Agreed to be Paid: None known at this time

(vii) Sensitivity of Technology Contained in the Defense Article or Defense Services Proposed to be Sold: See Attached Annex

(viii) Date Report Delivered to Congress: June 11, 2024

* as defined in Section 47(6) of the Arms Export Control Act.

POLICY JUSTIFICATION

Norway—AIM-120C-8 Advanced Medium-Range Air-to-Air Missiles

The Government of Norway has requested to buy three hundred (300) AIM-120C-8 Advanced Medium-Range Air-to-Air Missiles (AMRAAM) and twenty (20) AIM-120C-8 AMRAAM guidance sections. Also included are AMRAAM containers and support equipment; spare parts, consumables, accessories, and repair and return support; weapons software, support equipment, and classified software delivery and support; transportation support; classified publications and technical documentation; training; studies and surveys; U.S. Government and contractor engineering; technical and logistics support services; and other related elements of logistics and program support. The estimated total cost is $1.94 billion.

This proposed sale will support the foreign policy goals and national security objectives of the U.S. by improving the security of a North Atlantic Treaty Organization Ally that is a force for political stability and economic progress in Europe.

The proposed sale will improve Norway's capability to meet current and future threats by supplementing and replacing its AIM-120B AMRAAMs with the latest version of the AIM-120C. Norway already has AMRAAMs and F-35As in its inventory and will have no difficulty absorbing these articles into its armed forces. The newly acquired missiles will be used for ground-based air defense in the National Advanced Surface-to-Air Missile System (NASAMS) but may be subject to dual use with the F-35A.

The proposed sale of this equipment and support will not alter the basic military balance in the region.

The principal contractor will be RTX Corporation, located in Tucson, AZ. The purchaser typically requests offsets. Any offset agreement will be defined in negotiations between the purchaser and the contractor.

Implementation of this proposed sale will not require the assignment of any additional U.S. Government or contractor representatives to Norway.

There will be no adverse impact on U.S. defense readiness as a result of this proposed sale.

Transmittal No. 24-49

Notice of Proposed Issuance of Letter of Offer Pursuant to Section 36(b)(1) of the Arms Export Control Act

Annex

Item No. vii

(vii) Sensitivity of Technology:

1. The AIM-120C-8 Advanced Medium-Range Air-to-Air Missile (AMRAAM) is a supersonic, air or surface-launched aerial intercept guided missile featuring digital technology and microminiature solid-state electronics. AMRAAM capabilities include look-down and shoot-down, multiple launches against multiple targets, resistance to electronic countermeasures, and interception of high and low-flying and maneuvering targets. This potential sale will include AMRAAM guidance sections, control sections, warhead spares, and containers.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Norway can provide substantially the same degree of protection for the sensitive technology being released as the U.S. Government. This proposed sale is necessary in furtherance of the U.S. foreign policy and national security objectives outlined in the Policy Justification.

5. All defense articles and services listed in this transmittal have been authorized for release and export to the Government of Norway.

[FR Doc. 2025-19373 Filed 10-1-25; 8:45 am]

BILLING CODE 6001-FR-P